DEPARTMENT OF DEFENSE

Office of the Secretary

Defense Advisory Committee on Investigation, Prosecution, and Defense of Sexual Assault in the Armed Forces; Notice of Federal Advisory Committee Meeting; Cancellation

AGENCY: General Counsel of the Department of Defense, Defense Advisory Committee on Investigation, Prosecution, and Defense of Sexual Assault in the Armed Forces, Department of Defense.

ACTION: Notice of Federal Advisory Committee meeting; cancellation.

SUMMARY: On Friday, August 10, 2018, the Department of Defense published a notice that announced a meeting of the Defense Advisory Committee on Investigation, Prosecution, and Defense of Sexual Assault in the Armed Forces (DAC-IPAD). The meeting was to have taken place on Thursday, August 23, 2018. Subsequent to the publication of that notice, the Department of Defense cancelled the meeting of August 23, 2018 due to a lack of quorum for the meeting.

FOR FURTHER INFORMATION CONTACT: Dwight Sullivan, 703-695-1055 (Voice), dwight.h.sullivan.civ@mail.mil (Email). Mailing address is DACIPAD, One Liberty Center, 875 N Randolph Street, Suite 150, Arlington, Virginia 22203. Website: http://dacipad.whs.mil/. The most up-to-date changes to the meeting agenda can be found on the website.

SUPPLEMENTARY INFORMATION: Due to circumstances beyond the control of the Department of Defense (DoD) and the Designated Federal Officer, the Defense Advisory Committee on Investigation, Prosecution, and Defense of Sexual Assault in the Armed Forces was unable to provide public notification required by 41 CFR 102-3.150(a) concerning the cancellation of its meeting on August 23, 2018. Accordingly, the Advisory Committee Management Officer for the Department of Defense, pursuant to 41 CFR 102-3.150(b), waives the 15-calendar day notification requirement.

The DAC-IPAD meeting that published in the Federal Register on Friday, August 10, 2018 (83 FR 39730-39731) has been cancelled. A notice announcing the re-scheduled meeting will publish at a later date in the Federal Register.

Dated: August 22, 2018.
Aaron T. Siegel,
Alternate OSD Federal Register Liaison Officer, Department of Defense.

[FR Doc. 2018-18522 Filed 8-24-18; 8:45 am]

BILLING CODE 5001-06-P